DEPARTMENT OF TRANSPORTATION

National Highway Traffic Safety Administration

[Docket No. NHTSA-2003-16031]

Notice of Receipt of Petition for Decision That Nonconforming 2001 and 2002 Mitsubishi Evolution VII, Left Hand Drive Passenger Cars Are Eligible for Importation

AGENCY: National Highway Traffic Safety Administration, DOT.

ACTION: Notice of receipt of petition for decision that nonconforming 2001 and 2002 Mitsubishi Evolution VII, left hand drive (LHD) passenger cars are eligible for importation.

SUMMARY: This document announces receipt by the National Highway Traffic Safety Administration (NHTSA) of a petition for a decision that 2001 and 2002 Mitsubishi Evolution VII LHD passenger cars that were not originally manufactured to comply with all applicable Federal motor vehicle safety standards are eligible for importation into the United States because (1) they are capable of being readily altered to conform to the standards, and (2) they are substantially similar to vehicles that were originally manufactured for importation into and sale in the United States and that were certified by their manufacturer as complying with the safety standards.

DATES: The closing date for comments on the petition is October 3, 2003.

ADDRESSES: Comments should refer to the docket number and notice number, and be submitted to: Docket Management, Room PL-401, 400 Seventh St., SW., Washington, DC 20590. Docket hours are from 9 a.m. to 5 p.m. Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78), or you may visit http://dms.dot.gov.

FOR FURTHER INFORMATION CONTACT: Coleman Sachs, Office of Vehicle Safety Compliance, NHTSA (202-366-3151).

SUPPLEMENTARY INFORMATION:

Background

Under 49 U.S.C. 30141(a)(1)(A), a motor vehicle that was not originally manufactured to conform to all applicable Federal motor vehicle safety standards shall be refused admission into the United States unless NHTSA has decided that the motor vehicle is substantially similar to a motor vehicle originally manufactured for importation into and sale in the United States, certified under 49 U.S.C. 30115, and of the same model year as the model of the motor vehicle to be compared, and is capable of being readily altered to conform to all applicable Federal motor vehicle safety standards.

Under 49 U.S.C. 30141(a)(1)(B), a motor vehicle that was not originally manufactured to conform to all applicable Federal motor vehicle safety standards may also be granted admission into the United States, even if there is no substantially similar motor vehicle of the same model year originally manufactured for importation into and sale in United States, if the safety features of the vehicle comply with or are capable of being altered to comply with those standards based on destructive test information or other evidence that NHTSA decides is adequate.

Petitions for eligibility decisions may be submitted by either manufacturers or importers who have registered with NHTSA pursuant to 49 CFR part 592. As specified in 49 CFR 593.7, NHTSA publishes notice in the Federal Register of each petition that it receives, and affords interested persons an opportunity to comment on the petition. At the close of the comment period, NHTSA decides, on the basis of the petition and any comments that it has received, whether the vehicle is eligible for importation. The agency then publishes this decision in the Federal Register.

G&K Automotive Conversion, Inc. of Santa Ana, California (“G&K”) (Registered Importer 90-007) has petitioned NHTSA to decide whether 2001 and 2002 Mitsubishi Evolution VII LHD passenger cars are eligible for importation into the United States. G&K believes that these vehicles are capable of being modified to meet all applicable Federal motor vehicle safety standards (FMVSS).

In its petition, G&K stated that nonconforming 2001 and 2002 Mitsubishi Evolution VII LHD passenger cars are substantially similar to both the U.S. version 2003 Mitsubishi Evolution VIII and the U.S. version 2001 and 2002 Mitsubishi Lancer 4 door sedan passenger cars. Because it is of a different model year, the 2003 Mitsubishi Evolution VIII cannot be regarded as substantially similar to the 2001 and 2002 Mitsubishi Evolution VII for import eligibility purposes. Moreover, while there may be similarities between the 2003 Mitsubishi Evolution VIII and the 2001 and 2002 Mitsubishi Lancer 4 door sedan vehicles that Mitsubishi has manufactured for importation into and sale in the United States NHTSA has decided that the latter vehicle cannot be categorized as “substantially similar” to the nonconforming 2001 and 2002 Mitsubishi Evolution VII LHD versions for the purpose of establishing import eligibility under section 30141(a)(1)(A). Therefore, we will construe G&K's petition as a petition pursuant to 49 U.S.C. 30141(a)(1)(B), seeking to establish import eligibility for the 2001-2002 Mitsubishi Evolution VII on the basis that it has safety features that comply with, or are capable of being modified to comply with, the FMVSS based on destructive test information or such other evidence that NHTSA decided is adequate.

G&K submitted information with its petition intended to demonstrate that non-U.S. certified 2001 and 2002 Mitsubishi Evolution VII LHD passenger cars, as originally manufactured, conform to many Federal motor vehicle safety standards and are capable of being readily altered to conform to all other standards to which they were not originally manufactured to conform.

Specifically, the petitioner claims that non-U.S. certified 2001 and 2002 Mitsubishi Evolution VII LHD passenger cars have safety features that comply with Standard Nos. 102 Transmission Shift Lever Sequence * * *, 103 Defrosting and Defogging Systems, 104 Windshield Wiping and Washing Systems, 106 Brake Hoses, 109 New Pneumatic Tires, 113 Hood Latch Systems, Standard No. 114 Theft Protection, 116 Brake Fluid, 118 Power Window Systems, 124 Accelerator Control Systems, 135 Passenger Car Brake Systems, 201 Occupant Protection in Interior Impact, 202 Head Restraints, 203 Impact Protection for Driver from Steering Control Systems, 204 Steering Control Rearward Displacement, 205 Glazing Materials, 206 Door Locks and Door Retention Components, 207 Seating Systems, 208 Occupant Crash Protection, 209 Seat Belt Assemblies, 210 Seat Belt Assembly Anchorages, 212 Windshield Retention, 214 Side Impact Protection, 216 Roof Crush Resistance, 219 Windshield Zone Intrusion, and 302 Flammability of Interior Materials.

Petitioner also contends that the vehicles are capable of being readily altered to meet the following standards, in the manner indicated:

Standard No. 101 Controls and Displays: (a) Substitution of the word “Brake” for the international ECE warning symbol as the marking for the brake failure indicator lamp; (b) inspection of all vehicles and installation, on vehicles that are not already so equipped, of a U.S. model speedometer reading in miles per hour.

Standard No. 108 Lamps, Reflective Devices and Associated Equipment: installation of U.S.-model front and rear side marker lights and reflector assemblies.

Standard No. 110 Tire Selection and Rims: installation of a tire information placard.

Standard No. 111 Rearview Mirror: inscription of the required warning statement on the face of the passenger side rearview mirror.

Standard No. 225 Child Restraint Anchorage Systems: installation of U.S.-model child restraint anchorage systems.

Standard No. 301 Fuel System Integrity: The petitioner stated that modification of fuel system is necessary to meet EPA emission requirements and that after these modifications the vehicle will still comply with this standard.

Standard No. 401 Interior Trunk Release: installation of U.S. model interior trunk release handle.

Petitioner states that the front and rear bumper on non-U.S. certified 2001 and 2002 Mitsubishi Evolution VII LHD passenger cars must be reinforced to meet the requirements of the Bumper Standard found in 49 CFR part 581.

The petitioner also states that inspection of all vehicles for compliance with the parts marking requirements of the Theft Prevention Standard in 49 CFR part 541 is necessary, and that required markings will be added to any covered parts that are not already so marked.

In addition, the petitioner states that a vehicle identification number (VIN) plate must be affixed to the vehicle so that it is readable from outside the driver's windshield pillar to meet the requirements of 49 CFR part 565.

Lastly, the petitioner states that a certification label will be affixed to the driver's side doorjamb to meet the requirements of the vehicle certification regulations in 49 CFR part 567.

Interested persons are invited to submit comments on the petition described above. Comments should refer to the docket number and be submitted to: Docket Management, Room PL-401, 400 Seventh St., SW., Washington, DC 20590. Docket hours are from 9 a.m. to 5 p.m. It is requested but not required that 10 copies be submitted.

All comments received before the close of business on the closing date indicated above will be considered, and will be available for examination in the docket at the above address both before and after that date. To the extent possible, comments filed after the closing date will also be considered. Notice of final action on the petition will be published in the Federal Register pursuant to the authority indicated below.

Authority: 49 U.S.C. 30141(a)(1)(B) and (b)(1); 49 CFR 593.8; delegations of authority at 49 CFR 1.50 and 501.8.

Issued on: August 27, 2003.
Kenneth N. Weinstein,
Associate Administrator for Enforcement.

[FR Doc. 03-22372 Filed 9-2-03; 8:45 am]

BILLING CODE 4910-59-P